DEPARTMENT OF HEALTH AND HUMAN SERVICES

National Institutes of Health

Office of the Director Notice of Establishment

Pursuant to the Federal Advisory Committee Act, as amended (5 U.S.C. App), the Director, National Institutes of Health (NIH), announces the establishment of the National Center for Advancing Translational Sciences Advisory Council (Council) and the Cures Acceleration Network Review Board (Board), in the National Center for Advancing Translation Sciences (NCATS).

The Council will advise, assist, consult with, and make recommendations to the Secretary of Health and Human Services (Secretary), the Director, National Institutes of Health (NIH) and the Director, National Center for Advancing Translational Sciences (NCATS, also referred to as Center) on matters related to the activities carried out by and through the Center and the policies respecting these activities.

The Board will advise, and provide recommendation to, the Director, NCATS, with respect to (1) policies, programs, and procedures for carrying out the duties of the Director, NCATS, under section 480 of the PHS Act; and (2) significant barriers to successful translation of basic science into clinical application (including issues under the purview of other agencies and departments).

Duration of each committee is two years from the date the Charter is filed.

Dated: February 7, 2012.
Francis S. Collins,
Director, National Institutes of Health.

[FR Doc. 2012-3572 Filed 2-14-12; 8:45 am]

BILLING CODE 4140-01-P